DEPARTMENT OF THE INTERIOR

Bureau of Land Management

[UT-936-04-2823-JM-PJ02]

Notice of Intent To Prepare a Land Use Plan Amendment

AGENCY: Bureau of Land Management, Interior.

ACTION: Notice of intent.

SUMMARY: This document provides notice that the BLM, Utah State Office, intends to prepare a Land Use Plan Amendment for Fire and Fuels Management for more than three quarters of BLM lands in Utah. This Plan Amendment will amend 21 Land Use Plans that address management of the public lands in the Cedar City, Fillmore, Kanab, Moab, Monticello, Richfield, Salt Lake, and St. George Field Offices (FOs), and the Grand Staircase-Escalante National Monument. The purpose of the Amendment is to incorporate current Federal Wildland Fire Management Policy into Resource Management Plans, Management Framework Plans, and the Grand Staircase-Escalante National Monument Management Plan. The Amendment will address restoring fire as an integral part of fire-adapted ecosystems to meet resource management objectives, to protect human life and property, as well as natural and cultural resources, through the reduction of hazardous fuels, and to establish consistent methods of managing fire and fuels on BLM-administered public lands in Utah. The Amendment will analyze fire and fuels management actions and their impacts on the human environment for public lands administered by the eight Utah BLM Field Offices and the Grand Staircase-Escalante National Monument in one document in order to ensure consistency and collaboration among the offices and the interested public.

DATES: The BLM is now soliciting written comments on issues and concerns that should be considered during the development and analysis of the proposed Land Use Plan Amendment. While written comments will be accepted throughout the planning process, to be most useful, comments should be received on or before the end of the comment period at the addresses listed below. The comment period will last 30 days from the publication of this notice in the Federal Register.

ADDRESSES: If you wish to comment, request additional information, or request to be put on the mailing list, you may do so by any of several methods. You may mail, hand deliver, or fax your comments or requests to: Matthew Higdon, Bureau of Land Management, Utah State Office, 324 S. State Street, Salt Lake City, UT 84111-2303; FAX (801) 539-4243. Comments or requests may be submitted via electronic mail as well (UT_Fire_Comments@blm.gov). Upon request, comments, including names and street addresses of respondents, will be available for public review at the BLM Utah State Office during regular business hours 8 a.m. to 4 p.m., Monday through Friday, except holidays, and may be published as part of the Amendment. Current Resource Management Plans, Management Framework Plans, the Monument Management Plan, and all other documents relevant to this planning process are also available for public review at the Utah State Office.

FOR FURTHER INFORMATION CONTACT: Jolie Pollet, Fire Ecologist, (801) 539-4129, or Matthew Higdon, Planner, (801) 539-4052, Utah State Office, 324 S. State Street, Salt Lake City, Utah 84111-2303.

SUPPLEMENTARY INFORMATION: This planning activity encompasses approximately 18 million acres of public lands within the state of Utah. The planning area includes all surface lands managed by BLM in the eight BLM Field Offices described above and the Grand Staircase-Escalante National Monument. This amendment does not affect lands for which BLM only administers the sub-surface, or mineral estate. This Plan Amendment will immediately amend the following: four Resource Management Plans (RMPs) [Cedar Beaver Garfield Antimony (1986), Grand (1985), St. George (1999), San Juan (1991)]; 12 Management Framework Plans (MFPs) [(Escalante (1981), Forest (1977), Henry Mountains (1982), Iso-tract (1985), Mountain Valley (1982), Paria (1981), Park City (1975), Parker Mountain (1982), Pinyon (1983), Randolph (1980), Vermillion (1981), Zion (1981)]; and the Grand Staircase-Escalante National Monument Management Plan (1999). In addition, this action could amend, at a later date, the Resource Management Plans guiding management for western desert areas of the Salt Lake and Fillmore Field Offices.

The proposed Plan Amendment will: (1) Establish landscape level fire management objectives; (2) describe desired wildland fire conditions; (3) identify the suite of management strategies and actions to meet desired wildland fire conditions and desired resource management conditions; (4) describe areas where fire may be restored to the ecosystem; (5) describe areas where fires are unwanted; (6) identify general restrictions on fire management practices; (7) identify criteria used for establishing fire management priorities; and (8) identify the anticipated maximum burned acres and acres treated for hazardous fuel reduction. BLM has identified general issues for this planning effort, including: protection of human life; protection of property; protection of natural/cultural resources; integration of fire and resource management; and protection of air quality. These issues, along with others that may be identified through public participation, will be considered during the planning process.

BLM has identified the following preliminary planning criteria to guide the planning process: (1) Compliance with all legal mandates of the Federal Land Policy and Management Act of 1976, the National Environmental Policy Act of 1969, the Federal Advisory Committee Act, the Administrative Procedures Act, the BLM planning regulations in 43 CFR part 1600, and other relevant laws; (2) the Amendment will recognize the existence of valid existing rights; (3) lands covered in the Amended Land Use Plans will be public lands managed by the BLM and decisions in the Amendment will be made only on lands managed by BLM; (4) the BLM will use a collaborative and multi-jurisdictional approach, where possible, to jointly determine the desired future conditions of public lands; (5) the BLM will make all possible attempts to ensure that its management prescriptions and planning actions are as complimentary as possible to other planning jurisdictions, within the boundaries described by law and policy; (6) the BLM will, to the extent possible, use current scientific information, research, new technologies and the results of resource assessments, monitoring and coordination to determine appropriate management strategies that will enhance or restore impaired ecosystems; and (7) the Amendment will supersede only sections of the existing Land Use Plans that relate to Fire and Fuels Management. Additional planning criteria may be identified during the comment period.

Existing information will be used to develop the Plan Amendment. An interdisciplinary approach will be used to develop the Plan Amendment in order to consider the variety of resource issues and concerns identified. Disciplines involved in the planning process will include but are not limited to fire and fuels, rangeland, outdoor recreation, cultural resources, wildlife, wilderness, hydrology, soils science, sociology, and economics. Selectable alternatives must contribute to the purpose of the proposed Plan Amendment and protection of communities at risk from catastrophic wildfire. A collaborative process will be used to involve other Federal agencies, Native American tribes, conservation groups, recreationists, the public, and BLM specialists throughout the planning process to ensure that local, regional, and national issues and concerns are addressed, and to participate in developing and analyzing alternatives. The Governor of Utah, County Commissioners for involved counties in Utah, and potentially affected members of the public will be notified of all meetings and comment periods. Agency representatives and interested persons are invited to visit with BLM officials at any time during the planning process. Submitted comments, including names and street addresses of respondents, will be available for public review at the BLM Utah State Office. Individual respondents may request confidentiality. If you wish to withhold your name or street address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

A congressional restriction was placed on land use planning in the western portion of Utah under the National Defense Authorization Act for Fiscal Year 2000. However, in order to address cumulative impacts and increase cost-efficiencies, it is proposed that the Box Elder RMP and Pony Express RMP in Salt Lake FO, and House Range RMP and Warm Springs RMP in Fillmore FO be included as part of the NEPA analysis relating to the LUP amendment. The decision to amend these RMPs will not be signed unless or until the restriction is removed or resolved. At that time, if circumstances have not changed, the decision to amend these four plans would be signed and implemented.

Dated: March 1, 2004.
Gene Terland,
Utah Associate State Director.

[FR Doc. 04-7466 Filed 4-1-04; 8:45 am]

BILLING CODE 4310-DQ-P